ENVIRONMENTAL PROTECTION AGENCY

[EPA-HQ-OAR-2009-0211; FRL-8907-7]

Notice of Receipt of a Clean Air Act Waiver Application To Increase the Allowable Ethanol Content of Gasoline to 15 Percent; Extension of Comment Period

AGENCY: Environmental Protection Agency (EPA).

ACTION: Notice; extension of comment period.

SUMMARY: The U.S. Environmental Protection Agency (“EPA”), in response to many requests from the public, is extending the public comment period on the waiver application to increase the allowable ethanol content of gasoline to 15 percent (“E15”) which was submitted by Growth Energy and 54 ethanol manufacturers on March 6, 2009. EPA published notice of receipt and request for comment in the Federal Register for Growth Energy's application on April 21, 2009 (74 FR 18228). The public comment period was to end on May 21, 2009. The purpose of this document is to extend the comment period an additional 60 days until July 20, 2009. This extension of the comment period is provided to allow the public additional time to respond to the legal and technical issues raised in the application. This action does not extend the 270-day statutory deadline for the Administrator to grant or deny the E15 waiver request, which ends on December 1, 2009.

DATES: Written comments must be received on or before July 20, 2009.

ADDRESSES: Submit your comments, identified by Docket ID No. EPA-HQ-OAR-2009-0211, by one of the following methods:

• http://www.regulations.gov: Follow the on-line instructions for submitting comments.

• E-mail: a-and-r-docket@epa.gov.

• Fax: (202) 566-1741.

• Mail: Air and Radiation Docket, Docket ID No. EPA-HQ-OAR-2009-0211, Environmental Protection Agency, Mailcode: 6102T, 1200 Pennsylvania Ave., NW., Washington, DC 20460. Please include a total of two copies.

• Hand Delivery: EPA Docket Center, Public Reading Room, EPA West Building, Room 3334, 1301 Constitution Avenue, NW., Washington, DC 20460. Such deliveries are only accepted during the Docket's normal hours of operation, and special arrangements should be made for deliveries of boxed information.

Instructions: Direct your comments to Docket ID No. EPA-HQ-OAR-2009-0211. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

How Can I Access the Docket?

EPA has established a public docket for this application under Docket ID No. EPA-HQ-OAR-2009-0211, which is available for Online viewing at http://www.regulations.gov, or in person viewing at the EPA/DC Docket Center Public Reading Room, 1301 Constitution Avenue, NW., Room 3334, Washington, DC. The EPA/DC Public Reading Room is open from 8:30 a.m. to 4:30 p.m., Monday through Friday, excluding legal holidays. The telephone number for the Reading Room is 202-566-1744, and the telephone number for the Air and Radiation Docket is 202-566-1742.

Use http://www.regulations.gov to obtain a copy of the waiver request, submit or view public comments, access the index listing of the contents of the docket, and to access those documents in the public docket that are available electronically. Once in the system, select “search,” then key in the docket ID number identified in this document.

FOR FURTHER INFORMATION CONTACT: Robert K. Anderson, Office of Transportation and Air Quality (6405J), Environmental Protection Agency, 1200 Pennsylvania Ave., NW., Washington, DC 20460; telephone number: (202) 343-7518; fax number: (202) 343-2802; e-mail address: anderson.robert@epa.gov.

SUPPLEMENTARY INFORMATION:

Background

On March 6, 2009, Growth Energy and 54 ethanol manufacturers submitted an application to the U.S. Environmental Protection Agency for a waiver of the prohibition of the introduction into commerce of certain fuels and fuel additives set forth in section 211(f) of the Clean Air Act (“the Act”). This application seeks a waiver for ethanol-gasoline blends of up to 15 percent by volume ethanol (“E15”). On April 21, 2009, EPA published notice for the receipt of the application, and, as required by section 211(f)(4) of the Act, EPA requested public comment on all aspects of the waiver application that will assist the Administrator in determining whether the statutory basis for granting the waiver request for ethanol-gasoline blends containing up to E15 has been met (See 74 FR 18228). EPA originally provided a 30-day period for the public to respond. The deadline for public comment was May 21, 2009.

In a letter dated April 17, 2009, the National Corn Growers Association requested a 60-day extension to the comment period. On April 27, 2009, EPA received a request from 36 national organizations who stated they represent a diverse cross-section of interests and who requested a 60-day extension to the comment window. Also on April 27, 2009, the Alliance of Automobile Manufacturers requested a 45-day extension. Finally, on May 6, 2009, AllSAFE—a group of national consumer, manufacturing, and gasoline retailer associations that utilize gasoline and ethanol fuel blends—requested a minimum 30-day extension to the comment period. In general, these parties stated that additional time would be needed in order to allow commenters more time to properly address the complex legal and technical issues and provide more thorough comments that would aid in considering the E15 waiver.

Although EPA agrees that additional time for comments may be needed, this need must be balanced against the need to allow EPA ample time to review all relevant data and public submissions before the 270-day statutory decision deadline. EPA believes an additional 60 days would allow adequate time for these stakeholders and others to provide meaningful comment on the E15 waiver request. EPA does not anticipate any further extension of the comment period for this waiver request.

Extension of Comment Period

EPA has determined that extension of the comment period would aid in providing the public an adequate amount of time to respond to the complex legal and technical issues that result from possibly allowing E15 to be sold commercially. Accordingly, the public comment period for the E15 waiver to section 211(f) of the Act is extended until July 20, 2009. This action does not extend the 270-day statutory deadline of December 1, 2009, for the Administrator to grant or deny the E15 waiver request.

Dated: May 14, 2009.
Elizabeth Craig,
Acting Assistant Administrator, Office of Air and Radiation.

[FR Doc. E9-11785 Filed 5-19-09; 8:45 am]

BILLING CODE 6560-50-P